DEPARTMENT OF TRANSPORTATION

Office of the Secretary

Aviation Proceedings, Agreements Filed During the Week Ending February 16, 2001

The following Agreements were filed with the Department of Transportation under the provisions of 49 U.S.C. sections 412 and 414. Answers may be filed within 21 days after the filing of the application.

Docket Number: OST-2001-8896.

Date Filed: February 12, 2001.

Parties: Members of the International Air Transport Association.

Subject: PTC1 0179 dated February 6, 2001, Mail Vote 106—Resolution 010q, TC1 Within South America Special Passenger, Amending Resolution, Intended effective date: March 1, 2001.

Docket Number: OST-2001-8909.

Date Filed: February 14, 2001.

Parties: Members of the International Air Transport Association.

Subject: PTC COMP 0775 dated February 13, 2001, Mail Vote 107 Resolution 010h, Special Passenger Currency Conversion Resolution—euro, Intended effective date: March 1, 2001.

Docket Number: OST-2001-8923.

Date Filed: February 15, 2001.

Parties: Members of the International Air Transport Association.

Subject: PTC12 NMS-ME 0123 dated February 9, 2001, TC12 North Atlantic-Israel Expedited Resolutions r1-r7, Intended effective date: March 15, 2001.

Docket Number: OST-2001-8924.

Date Filed: February 15, 2001.

Parties: Members of the International Air Transport Association.

Subject: PTC12 NMS-ME 0122 dated February 9, 2001, North Atlantic-Middle East Expedited Resolution 002w, Intended effective date: March 15, 2001.

Docket Number: OST-2001-8926.

Date Filed: February 16, 2001.

Parties: Members of the International Air Transport Association.

Subject: PTC12 NMS-ME 0129 and PTC12 NMS-ME 0130 dated February 16, 2001, Mail Votes 108 and 109—Resolutions 010r and 010s (Amending), TC12 Mid/South Atlantic Special Amending Resolutions from Kuwait, Yemen, Intended effective date: March 15, 2001.

Docket Number: OST-2001-8931.

Date Filed: February 16, 2001.

Parties: Members of the International Air Transport Association.

Subject: PAC/Reso/410 dated December 21, 2000, Mail Vote A101 (Reso 850), Intended effective date: January 31, 2001.

Dorothy Y. Beard,
Federal Register Liaison.

[FR Doc. 01-5748 Filed 3-8-01; 8:45 am]

BILLING CODE 4910-62-P